DEPARTMENT OF THE INTERIOR

National Park Service

[NPS-WASO-NAGPRA-NPS0026610; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Oregon Museum of Natural and Cultural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Oregon Museum of Natural and Cultural History at the address in this notice by November 16, 2018.

ADDRESSES: Dr. Pamela Endzweig, Director of Collections, University of Oregon Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains under the control of the University of Oregon Museum of Natural and Cultural History, Eugene, OR. The human remains were removed from Lincoln County, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by University of Oregon Museum of Natural and Cultural History professional staff in consultation with representatives of the Confederated Tribes of Siletz Indians of Oregon (previously listed as the Confederated Tribes of the Siletz Reservation) and the Confederated Tribes of the Grand Ronde Community of Oregon.

History and Description of the Remains

At an unknown date, human remains representing, at minimum, one individual were removed from Yachats, in Lincoln County, OR. The human remains were donated to the University of Oregon Museum of Natural and Cultural History by a private party (acc. #100JT). The human remains consist of a single adult male (cat. #11-252). No known individual was identified. No associated funerary objects are present. Catalog records indicate a general provenience for the human remains near Yachats. The human remains are determined to be Native American based on skeletal evidence.

In 1959, human remains representing, at minimum, one individual were removed near Yachats, in Lincoln County, OR, during construction of the Adobe Motel. The human remains were donated to the University of Oregon Museum of Natural and Cultural History by a private party in the same year (acc. #185). The human remains consist of a single adult female (cat. #11-315). No known individual was identified. No associated funerary objects are present. Based on skeletal evidence and archeological context, the human remains are determined to be Native American.

Historical documents, ethnographic sources, and oral history indicate that the Alsea people have occupied the Yachats area since pre-contact times. Based on museum records of provenience, the human remains are reasonably believed to be Alsea. Descendants of the Alsea are members of the Confederated Tribes of Siletz Indians of Oregon (previously listed as the Confederated Tribes of the Siletz Reservation).

In September 1960, human remains representing, at minimum, five individuals were removed from Waldport, in Lincoln County, OR, during legally authorized excavations by archeologists from the University of Oregon. The human remains were discovered during the construction of the Jolly Rogers Hotel. The human remains were transferred to the museum in 1961 (acc. #221) and consist of four adults, two males and two females (cat. #11-408) and a youth of indeterminate sex (cat. #11-407). No known individuals were identified. No associated funerary objects are present.

Historic archeological material was found with the human remains, but not donated to the museum. The human remains are determined to be Native American based on archeological context. Based on provenience, the human remains are reasonably believed to be Alsea or Yaquina. Descendants of the Alsea and Yaquina are members of the Confederated Tribes of Siletz Indians of Oregon (previously listed as the Confederated Tribes of the Siletz Reservation).

At an unknown date, human remains representing, at minimum, one individual were removed from the south point of Depoe Bay, in Lincoln County, OR, during septic tank excavations. The human remains were donated to the University of Oregon Museum of Natural and Cultural History by a private party at some point likely in the 1980s (no acc. #). The human remains consist of a single adult male (cat. #11-522). No known individual was identified. No associated funerary objects are present.

Historical documents, ethnographic sources, and oral history indicate that the Siletz people have occupied the Depoe Bay area since pre-contact times. The human remains are determined to be Native American based on archeological contest and skeletal evidence. Based on provenience, the human remains are reasonably believed to be Siletz. Descendants of the Siletz are members of the Confederated Tribes of Siletz Indians of Oregon (previously listed as the Confederated Tribes of the Siletz Reservation).

Determinations Made by the University of Oregon Museum of Natural and Cultural History

Officials of the University of Oregon Museum of Natural and Cultural History have determined that:

• Pursuant to 25 U.S.C. 3001(9), the human remains described in this notice represent the physical remains of eight individuals of Native American ancestry.

• Pursuant to 25 U.S.C. 3001(2), there is a relationship of shared group identity that can be reasonably traced between the Native American human remains and the Confederated Tribes of Siletz Indians of Oregon (previously listed as the Confederated Tribes of the Siletz Reservation).

Additional Requestors and Disposition

Lineal descendants or representatives of any Indian Tribe or Native Hawaiian organization not identified in this notice that wish to request transfer of control of these human remains should submit a written request with information in support of the request to Dr. Pamela Endzweig, Director of Collections, University of Oregon Museum of Natural and Cultural History, 1224 University of Oregon, Eugene, OR 97403-1224, telephone (541) 346-5120, email endzweig@uoregon.edu, by November 16, 2018. After that date, if no additional requestors have come forward, transfer of control of the human remains to the Confederated Tribes of Siletz Indians of Oregon (previously listed as the Confederated Tribes of the Siletz Reservation) may proceed.

The University of Oregon Museum of Natural and Cultural History is responsible for notifying the Confederated Tribes of Siletz Indians of Oregon (previously listed as the Confederated Tribes of the Siletz Reservation) and the Confederated Tribes of the Grand Ronde Community of Oregon that this notice has been published.

Dated: October 1, 2018.
Melanie O'Brien,
Manager, National NAGPRA Program.

[FR Doc. 2018-22585 Filed 10-16-18; 8:45 am]

BILLING CODE 4312-52-P